DEPARTMENT OF JUSTICE

National Institute of Corrections

Solicitation for a Cooperative Agreement—Video Production: New Jail Planning

AGENCY: National Institute of Corrections.

ACTION: Solicitation for a Cooperative Agreement.

SUMMARY: The National Institute of Corrections (NIC), Jails Division, is seeking applications for the development and production of a broadcast quality, educational DVD covering the five phases of new jail planning.

DATES: Applications must be received by 4 p.m. on Friday, May 30, 2008.

ADDRESSES: Applications must be submitted in six copies to Director, National Institute of Corrections, 320 First Street, NW., Room 5007, Washington, DC 20534. Hand delivered applications should be brought to 500 First Street, NW., Washington, DC 20534. At the front desk, call (202) 307-3106, extension 0 for pick up. Faxed applications will not be accepted. Applications can also be submitted via www.grants.gov.

FOR FURTHER INFORMATION: A copy of this announcement and the required application forms can be downloaded from the NIC Web page at http://www.nicic.gov.

All technical or programmatic questions concerning this announcement should be directed to Cheryl Paul at the NIC Jails Division, 320 1st Street, NW., Washington, DC 20534, (800) 995-6423 x 69590, or cmpaul@bop.gov.

SUPPLEMENTARY INFORMATION: Background: Since the 1970's the NIC Jails Division has provided services designed to assist public agencies in planning, building and occupying new jail facilities. These services have been provided through training courses (i.e. Planning of New Institutions and Managing Jail Design and Construction); technical assistance (i.e. jail and justice system assessments and How to Open New Institutions); and numerous documents including: Jail Planning and Expansion Local Officials and Their Roles, Resource Manual for Transition into a New Jail, Jail Design and Operation and the Constitution, Jail Design Review Handbook, Site Evaluation and Selection, Jail Design Guide, and Building Community Support for Your Project. All of these services focus on various aspects of the new jail planning and development process and have, over the years, contributed to the success of hundreds of counties in opening new jails that operate well and meet the detention needs of the community.

Objectives: The awardee of this cooperative agreement will produce a DVD that provides a comprehensive overview of the jail planning and development process. The video will be used to educate jail administrators, elected and appointed officials, county administrative staff, project managers, sheriffs, jail staff, other justice agencies, community members, citizen's groups, county boards, consultants, technical advisors and professionals in corrections and related fields on the activities that need to occur to ensure that the design, construction and occupancy of a new facility meets the needs of the county or other public agency. There are two primary goals: to clearly illustrate the importance of the planning process to the success of a new jail; and to provide viewers with basic information on each of the nine phases of the new jail planning process.

The nine phases of new jail planning will provide the educational basis for the DVD and they include: Project Recognition; Needs Assessment, Master Plans and Economic Feasibility Study; Program Development; Project Definition and Implementation Plan; Design; Bidding and Negotiations; Construction; Occupancy; Post Occupancy. By providing descriptions of the phases and how they fit in the planning process the knowledge base of those involved in the process will increase so informed decisions can be made during the planning, construction and occupancy of their new facility.

Statement of Work: General Information.

Working Title: New Jail Planning: Taking Control of the Process.

Length of DVD: 20-30 minutes.

Deadline: Video production will begin upon award of this agreement and must be completed within twelve months following the award date.

Intended Audience: Jail administrators; elected and appointed officials; county administrative staff; project managers; sheriffs ; jail transition teams; other justice agencies; community members; citizen's groups; county boards; consultants; technical advisors; professionals in corrections and related fields.

Project Description: The production company awarded this cooperative agreement will see the video production through from beginning to end. The company is expected to provide the staff, equipment, and other resources necessary for script-writing, directing, producing, filming, graphic design, off-line editing, on-line editing, and all other activities necessary for video production. The company will be expected to provide music, professional voice over narration, and other talent as necessary for the complete production.

The awardee will assign one staff member to oversee the project and work closely with NIC staff on all phases of production. NIC staff must review and approve all aspects of the project, including the treatment, scripting, creative ideas, filming sites, shooting days, persons interviewed, music, graphics, editing, and screening dates.

This project will also require travel to up to five jail sites to film facilities at different stages of completion and to interview those involved in the planning process. Filming at each site may require 2-3 days, not including travel time. NIC staff will accompany the film crew to the filming sites.

In general, NIC staff will work closely with the production company throughout the project to make sure personnel understand the jail planning process and that it is portrayed accurately in every detail of the video. NIC staff will be available to the production company to assist with questions or problems that arise. It is important, therefore, that the production company staff members are readily available for in-person meetings with NIC staff when necessary. It is anticipated that the production company will need to attend up to five, in person, meetings at the NIC offices in Washington, DC or other agreed upon location. Provisions can be made for telephone conferences as appropriate and necessary.

Pre Production

Script Writing: Working with NIC staff and up to two subject matter experts, chosen in conjunction with NIC following the award of the cooperative agreement and paid by the awardee, the awardee will produce a written script for the video (refer to Production Schedule).

Talent: The awardee will provide a professional voice over narrator(s) for the video and other talent as deemed necessary during the scripting process. NIC does not anticipate the need to hire professional actors for filming and will arrange for individuals to participate in filmed interviews and staged events, such as meetings.

Setting: Filming will take place at various locations throughout the United States. The awardee will be required to film jail facilities at various stages of completion. It is anticipated that filming will also take place in conference rooms, board rooms, classrooms and other settings related to the information presented in the video. NIC will be responsible for locating all sites were filming will occur.

Production

Quality: It is expected that the final version of this video will be of high-end broadcast quality in a format consistent with that quality, such as Betacam Digital. Once the video is completed, the production company will provide NIC with one master suitable for duplicating onto a DVD format. All videotape used in this production is the property of the U.S. Government and is to be delivered to NIC upon completion of this project.

Client Approval: NIC staff will be available for quality assurance through all phases of the project (refer to Production Schedule). Each step of the production process will require the approval of NIC staff.

Post-Production

Audio: The awardee will provide all music for the video as approved by NIC.

Voice Over: The awardee will provide professional talent for voice over narration of the video. It is anticipated that there will be one male and one female voice used for the narration. It would be desirable if commonly recognized voices would be used for this purpose. All voices used in the narration of this video will be approved by NIC.

Graphics/Effects: NIC anticipates the extensive use of graphics, artwork, lettering and backgrounds in this video, e.g. flow charts, blueprints, tables, etc. The awardee will be expected to produce all graphics for the video. NIC also anticipates of the use of digital effects for the transition between elements in the film.

Presentation

Videotape Distribution: NIC expects to widely distribute this DVD. It will be made available, upon request and free of charge, through the NIC Information Center. Local officials, detention practitioners, professional corrections organizations, private corrections consultants, and professionals in related fields will be able to request a copy of the DVD. NIC will also distribute the DVD to participants in our various training programs related to new jail planning. The DVD will also be downloadable from our Web site.

Quantity: NIC will require, in addition to the master, 100 copies in DVD format. Each DVD will be labeled with the seal of the United States Department of Justice, National Institute of Corrections and an appropriate graphic developed by the production company and approved by NIC. All DVDs will be encased in a standard rigid DVD case with the graphic from the DVD and additional information on the front.

Production Schedule: The list below shows the major activities required to complete the project. Video production will begin upon award of this agreement and must be completed twelve months after the award date. The schedule for completion of activities should include the following, at a minimum:

Awardee's kickoff meeting in Washington, DC with NIC staff for a project overview;

Awardee conducts research of the concepts of new jail planning (materials provided by NIC) and hires up to two subject matter experts, chosen in conjunction with and approved by NIC, as technical consultants;

NIC project staff develops an outline of key concepts to be included in video with suggestions for illustrating concepts;

Working with NIC project staff, the awardee develops initial treatment and/or story board for the film;

Awardee writes the script and presents to NIC staff for review;

Awardee completes script revisions and submits to NIC staff final approval;

Awardee prepares complete shot list; Filming (locations) and interviews scheduled and coordinated with sites by NIC staff;

Awardee completes filming at various locations around the United States with assistance from NIC staff;

Awardee begins off-line editing; Screening of off-line edit and selection of shots to be used completed by awardee and NIC staff;

Graphics created by awardee reviewed and approved by NIC staff;

On-line narration completed by professional talent hired by awardee and approved by NIC;

On-line edit completed by awardee;

On-line screening by awardee and NIC staff;

Review and approval of final edit by NIC staff;

Final products delivered to NIC by awardee.

Applicants' Conference: An applicants' conference will be held on Friday, May 16, 2008 from 1 p.m. to 3 p.m. (EDT) at the NIC office, 500 1st Street, NW., Washington, DC, 7th Floor. The conference will give applicants the opportunity to meet with NIC project staff to ask questions about the project and the application procedures. Attendance at the conference is optional and provisions can be made for telephone conferencing for those who will be unable to attend in person. Applicants who plan to attend or who would like to participate via telephone should call Cheryl Paul, NIC Jails Division, Correctional Program Specialist, at (800) 995-6423 x 69590 by Wednesday, May 14, 2008 to confirm attendance.

Application Requirements: The application package must include OMB Standard Form 424, Application for Federal Assistance and a cover letter that identifies the audit agency responsible for the applicant's financial accounts as well as the audit period or fiscal year that the applicant operates under (e.g., July 1 through June 30); and an outline of projected costs. The following additional forms must also be included: OMB Standard Form 424A, Budget information—Non-Construction Programs; OMB Standard Form 424B, Assurances—Non-Construction Programs (available on www.grants.gov) and DOJ/NIC Certification Regarding Lobbying; Debarment, Suspension and Other Responsibility Matters; and the Drug-Free Workplace Requirements (available at http://www.nicic.gov/Downloads/PDF/certif-frm.pdf.) The applications should be concisely written, typed double spaced and referenced to the project by the “NIC Application Number” and Title in this announcement.

Applications can be submitted in hard copy, or electronically via www.grants.gov. If submitted in hard copy, there needs to be an original and six copies of your full proposal (program and budget narrative, application forms and assurances). The original should have the applicant's signature in blue ink.

The narrative portion of the application should include, at a minimum: a brief paragraph indicating the applicant(s understanding of the purpose of the video and the issues to be addressed; a brief paragraph that summarizes the project goals and objectives; a clear description of the methodology that will be used to complete the project and achieve its goals; a statement or chart of measurable project milestones and time lines for the completion of each milestone; a description of the staffing plan for the project, including the role of each project staff, the time commitment for each, the relationship among the staff (who reports to whom), and an indication that all required staff will be available; a description of the qualifications of the applicant organization and a résumé for the principal and each staff member assigned to the project that documents relevant knowledge, skills and ability to carry out the project; a minimum of five references for which the applicant has provided a similar service; a budget that details all costs for the project, shows consideration for all contingencies for this project, and notes a commitment to work within the proposed budget; and a brief sample of a minimum of two video productions completed by the applicant. The applicant organization must specify its role in the production of the sample videos.

Authority: Public Law 93-415.

Funds Available: NIC is seeking the applicant's best ideas regarding accomplishment of the scope of work and the related costs for achieving the goals of this solicitation. The final budget and award amount will be negotiated between NIC and the successful applicant. Funds may only be used for the activities that are linked to the desired outcome of the project. No funds are transferred to state or local governments.

Eligibility of Applicants: An eligible applicant is any agency, educational institution, organization, individual or team with expertise in video production to implement a project of this size and scope.

Review Considerations: Applications will be reviewed by a team of NIC staff. Among the criteria used to evaluate the applications are: indication of a clear understanding of the project requirements; background, experience, and expertise of the proposed project staff, including any subcontractors; effectiveness of the creative approach to the project; clear, concise description of all elements and tasks of the project, with sufficient and realistic time frames necessary to complete the tasks; technical soundness of project design and methodology; financial and administrative integrity of the proposal, including adherence to federal financial guidelines and processes; a sufficiently detailed budget that shows consideration of all contingencies for this project and commitment to work within the budget proposed; indication of availability to meet with NIC staff, possibly at short notice, at key points in videotape production (at a minimum, those listed under “Project Description”).

Number of Awards: One.

NIC Application Number: 08J63. This number should appear as a reference line in the cover letter, in box 4a of Standard Form 424, and outside of the envelope in which the application is sent.

Catalog of Federal Domestic Assistance Number: 16.601.

Executive Order 12372: This project is not subject to the provisions of Executive Order 12372.

Morris L. Thigpen,
Director, National Institute of Corrections.

[FR Doc. E8-9448 Filed 4-29-08; 8:45 am]

BILLING CODE 4410-36-P